DEPARTMENT OF THE INTERIOR

Fish and Wildlife Service

[FWS-R6-R-2008-N0113; 60138-1265-6CCP-S3]

Benton Lake National Wildlife Refuge Complex, MT

AGENCY: Fish and Wildlife Service, Interior.

ACTION: Notice of intent to prepare a comprehensive conservation plan and environmental assessment; request for comments.

SUMMARY: This notice advises that the U.S. Fish and Wildlife Service (Service) intends to gather information necessary to prepare a Comprehensive Conservation Plan (CCP) and associated environmental documents for the Benton Lake National Wildlife Refuge Complex (Complex) in Montana, which includes the Benton Lake National Wildlife Refuge (NWR), Lost Trail NWR, Blackfoot Valley Wildlife Management Area, Rocky Mountain Front Conservation Area, Benton Lake Wetland Management District (WMD), Swan River NWR, and the Northwest Montana Flathead County WMD.

The Service is furnishing this notice in compliance with Service CCP policy to advise other agencies and the public of its intentions, and to obtain suggestions and information on the scope of issues to be considered in the planning process.

DATES: Written comments must be received by September 17, 2008.

ADDRESSES: Comments and requests for more information regarding the Benton Lake NWR Complex should be sent to Toni Griffin, Planning Team Leader, Division of Refuge Planning, P.O. Box 25486, Denver Federal Center, Denver, Colorado 80225.

FOR FURTHER INFORMATION CONTACT: Toni Griffin, 303-236-4378, or John Esperance, Chief, Branch of Comprehensive Conservation Planning at 303-236-4369.

SUPPLEMENTARY INFORMATION: The Service has initiated the CCP for the Benton Lake NWR Complex with headquarters in Great Falls, Montana.

Each unit of the National Wildlife Refuge System has specific purposes for which it was established and for which legislation was enacted. Those purposes are used to develop and prioritize management goals and objectives within the National Wildlife Refuge System mission, and to guide which public uses will occur on the Complex. The planning process is a way for the Service and the public to evaluate management goals and objectives for the best possible conservation efforts of this important wildlife habitat, while providing for wildlife-dependent recreation opportunities that are compatible with the Complex's establishing purposes and the mission of the National Wildlife Refuge System.

The Service will conduct a comprehensive conservation planning process that will provide opportunity for Federal, Tribal, State, and local governments; agencies; organizations; and the public to participate in issue scoping and public comment. The Service is requesting input for issues, concerns, ideas, and suggestions for the future management of the Complex. Anyone interested in providing input is invited to respond to the following two questions.

(1) What problems or issues do you want to see addressed in the CCP?

(2) What improvements would you recommend for the Benton Lake NWR Complex?

The Service has provided the above questions for your optional use; you are not required to provide information to the Service. The Planning Team developed these questions to facilitate finding out more information about individual issues and ideas concerning the Complex. Comments received by the Planning Team will be used as part of the planning process; individual comments will not be referenced in our reports or directly responded to.

An opportunity will be given to the public to provide input at a public meeting to scope issues and concerns (schedule can be obtained from the Planning Team Leader at the above address). Comments may also be submitted anytime during the planning process by writing to the above address. All information provided voluntarily by mail, phone, or at public meetings becomes part of the official public record (i.e., names, addresses, letters of comment, input recorded during meetings). If requested under the Freedom of Information Act by a private citizen or organization, the Service may provide informational copies.

The environmental review of this project will be conducted in accordance with the requirements of the National Environmental Policy Act of 1969, as amended (42 U.S.C. 4321 et seq.); NEPA Regulations (40 CFR 1500-1508); other appropriate Federal laws and regulations; and Service policies and procedures for compliance with those regulations. All comments received from individuals on Service Environmental Assessments and Environmental Impact Statements become part of the official public record. Requests for such comments will be handled in accordance with the Freedom of Information Act, NEPA (40 CFR 1506.6(f)), and other Departmental and Service policies and procedures. When requested, the Service generally will provide comment letters with the names and addresses of the individuals who wrote the comments. However, the telephone number of the commenting individual will not be provided in response to such requests to the extent permissible by law. Additionally, public comment letters are not required to contain the commentator's name, address, or any other identifying information. Such comments may be submitted anonymously to the Service.

Date: May 15, 2008.
Gary G. Mowad,
Acting Regional Director.

Editorial Note: This document was received in the Office of the Federal Register on August 13, 2008.

[FR Doc. E8-19085 Filed 8-15-08; 8:45 am]

BILLING CODE 4310-55-P